FEDERAL ELECTION COMMISSION

Sunshine Act Meetings

AGENCY: Federal Election Commission.

TIME AND DATE: Thursday, January 30, 2014 at 10:00 a.m.

PLACE: 999 E Street, NW., Washington, DC (ninth floor).

STATUS: This meeting will be open to the public.

MATTERS TO BE CONSIDERED:

Audit Division Recommendation Memorandum on the Dallas County Republican Party (DCRP) (A11-14)

Audit Division Recommendation Memorandum on the Republican Party of Iowa (RPIA) (A11-24)

Management and Administrative Matters

Individuals who plan to attend and require special assistance, such as sign language interpretation or other reasonable accommodations, should contact Shawn Woodhead Werth, Secretary and Clerk, at (202) 694-1040, at least 72 hours prior to the meeting date.

CONTACT PERSON FOR MORE INFORMATION: Judith Ingram, Press Officer, Telephone: (202) 694-1220.

Shawn Woodhead Werth,
Secretary and Clerk of the Commission.

[FR Doc. 2014-01654 Filed 1-24-14; 11:15 am]

BILLING CODE 6715-01-P